DEPARTMENT OF ENERGY

Federal Energy Regulatory Commission

[Apple, Inc.; Project No. 14430-004]

Notice of Transfer of Exemption

1. By letter filed January 9, 2014, Apple, Inc. informed the Commission that the exemption from licensing for the Monroe Drop Hydroelectric Project, FERC No. 14430, originally issued August 1, 2014,¹ has been transferred from Monroe Hydro, LLC to Apple, Inc. The proposed project would be located on North Unit Irrigations District's main irrigation canal near the town of Culver in Jefferson County, Oregon. The transfer of an exemption does not require Commission approval.

¹ 148 FERC ¶ 62,098, Order Granting Exemption from Licensing (Conduit).

2. Apple, Inc. is now the exemptee for the Monroe Drop Hydroelectric Project, FERC No. 14430. All correspondence should be forwarded to: Apple, Inc., Attn: Mr. Nathan Fleisher, 1 Infinite Loop, MS: 119-REF, Cupertino, CA 95014.

Dated: February 18, 2015.
Nathaniel J. Davis, Sr.,
Deputy Secretary.

[FR Doc. 2015-03745 Filed 2-23-15; 8:45 am]

BILLING CODE 6717-01-P